DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to allow a proposed information collection project: “Medical Expenditure Panel Survey Household Component (MEPS-HC)-2001 through 2004”. In accordance with the Paperwork Reduction Act of 1995, Public Law 104-13 (44 U.S.C. 3506(c)(2)(A)), AHRQ invites the public to comment on this proposed information collection.

This proposed information collection was previously published in the Federal Register on October 3, 2000 and allowed 60 days for public comment. No public comments were received. The purpose of this notice is to allow an additional 30 days for public comment.

DATES: Comments on this notice must be received by January 12, 2001.

ADDRESSES: Written comments should be submitted to: OMB Desk Officer at the following address: Allison Eydt, Human Resources and Housing Branch, Office of Information and Regulatory Affairs, OMB: New Executive Office Building, Room 10235; Washington, DC 20503.

Comments submitted in response to this notice will be summarized and included in the request for OMB approval of the proposed information collection. All comments will become a matter of public record.

FOR FURTHER INFORMATION CONTACT: Cynthia D. McMichael, AHRQ Reports Clearance Officer, (301) 594-3132.

SUPPLEMENTARY INFORMATION: Proposed Project: “Medical Expenditure Panel Survey Household Component (MEPS-HC)-2001 through 2004”.

The AHRQ intends to conduct an annual panel survey of U.S. households to collect information on a variety of measures related to health status, health insurance coverage, health care use and expenditures, and sources of payment for health services. Each panel consists of a nationally representative sample of U.S. households who remain in MEPS for two consecutive years of data collection. The first panel of MEPS began in 1996 and has continued annually thereafter. The MEPS-HC is jointly sponsored by the AHRQ and the National Center for Health Statistics (NCHS).

It will be conducted using a sample of households selected from households which responded to the National Health Interview Survey (NHIS) sponsored by NCHS. The NHIS is a household survey which collects health related data from approximately 50,000 households and 110,000 people. The NHIS is used as the sampling frame for the MEPS and several other surveys as part of efforts by the Department of Health and Human Services (HHS) to integrate survey data collection activities.

Data to be collected from each household include detailed information on demographics, health conditions, current health status, utilization of health care providers, charges and payments for health care services, quality of care received, medications, employment and health insurance.

In accordance with AHRQ and NCHS confidentiality statutes, statistical and nonidentifying data will be made available through publications, articles in major journals as well as public use data files. The data are intended to be used for purposes such as:

• Generating national estimates of individual and family health care use and expenditures, private and public health insurance coverage, and the availability, costs and scope of private health insurance benefits among Americans;

• Examining the effects of changes in how chronic care and disability are managed and financed;

• Evaluating the growing impact of managed care and of enrollment in different types of managed care plans; and,

• Examining access to and costs of health care for common diseases and conditions, health care quality, prescription drug use, and other health issues.

Statisticians and researchers will use these data to make important generalizations on the civilian non-institutionalized population of the United States, as well as to conduct research in which the family is the unit of analysis.

Method of Collection: The data will be collected using a combination of modes. For example, the AHRQ intends to introduce study participants to the survey through advance mailings. The first contact will provide the household with information regarding the importance and uses of the information obtained. The AHRQ will then conduct five (in-person) interviews with each household to obtain health care use and expense data. Data will be collected using a computer-assisted personal interviewing method (CAPI). In certain cases, AHRQ will conduct interviews over the telephone, if necessary. Burden estimates follow:

Estimated Annual Respondent Burden Per Year: Each MEPS participant is asked to complete 5 interviews over two and one half years. Each interview averages 1.8 hours in length. Total burden is estimated in the following chart:

Survey period | Number of completes | Burden per complete (hours) | Total burden (hours)
Feb-July 2001 | 19,380 | 1.8 | 34,884
Aug-Dec 2001 | 13,280 | 1.8 | 23,904
Feb-July 2002 | 21,248 | 1.8 | 38,246
Aug-Dec 2002 | 16,239 | 1.8 | 29,230
Feb-July 2003 | 24,187 | 1.8 | 43,537
Total |  |  | 148,291

Dated: December 6, 2000.
John M. Eisenberg,
Director.

[FR Doc. 00-31671 Filed 12-12-00; 8:45 am]

BILLING CODE 4160-90-M